POSTAL SERVICE

39 CFR Part 111

Nonmailable Written, Printed, and Graphic Matter

AGENCY: Postal Service.

ACTION: Final rule.

SUMMARY: This final rule amends Part C030 of the Domestic Mail Manual (DMM) to provide for changes to the standards concerning written, printed, and graphic matter as a result of a recent Department of Justice opinion concerning lottery material.

EFFECTIVE DATE: December 14, 2000.

FOR FURTHER INFORMATION CONTACT: Jerome M. Lease (703) 292-4184.

SUPPLEMENTARY INFORMATION: As the result of an inquiry from the Postal Service, the Department of Justice has issued an opinion stating that the statute prohibiting the mailing of truthful advertising concerning lawful gambling activity, whether state-run or private, is no longer enforceable. The Attorney General has notified Congress that it will no longer enforce the criminal lottery statute (18 U.S.C. Section 1302) against gambling advertisement mailers, so long as the activity advertised is legal and the mailing does not provide any entry materials.

The Attorney General's opinion is based upon a decision of the Supreme Court issued in June 1999, which struck down similar prohibitions against truthful broadcast advertising for lawful gambling activity.

Accordingly, the Domestic Mail Manual (DMM) is revised to conform to the Attorney General's new guidance. The changes mean that:

1. Mailers may now mail advertisements for casinos and state-run or private lotteries (so long as that lottery is legal).

2. Newspapers and other publications that are mailed may run advertisements for lawful gambling activity without risking their authorizations to mail at periodicals rates.

3. The Postal Service may actively solicit advertising mail from licensed casinos and others lawfully conducting gambling activity.

The following prohibitions will still apply:

1. No mailing is acceptable if it provides entry materials or instrumentalities (lottery or raffle tickets, for instance) through the mail.

2. Mailing gambling proceeds, instrumentalities, or other means of participation continue to violate the criminal statute.

The changes announced in this document are effective on December 14, 2000, and also will be published in Postal Bulletin 22039 (12-14-00). These revisions to the DMM will be included in the printed version of DMM Issue 56, scheduled for January 2001 (pending a decision about the R2000-1 omnibus rate case). These amendments are being published without provision for public comment because the changes are required by law.

For the reasons discussed above, the Postal Service hereby adopts the following amendments to the Domestic Mail Manual (DMM) which is incorporated by reference in the Code of Federal Regulations (see 39 CFR part 111).

List of Subjects in 39 CFR Part 111

Postal Service.

PART 111—[AMENDED]

1. The authority citation for 39 CFR part 111 continues to read as follows:

Authority: 5 U.S.C. 552(a); 39 U.S.C. 101, 401, 403, 404, 3001-3011, 3201-3219, 3403-3406, 3621, 3626, 5001.

2. Revise part C030 of the DMM to include the following revisions:

C CHARACTERISTICS AND CONTENT

C000 General Information

* * * * *

C030 Nonmailable Written, Printed, and Graphic Matter

* * * * *

C031 Written, Printed, and Graphic Matter Generally

* * * * *

3.0 LOTTERY MATTER (18 USC 1302)

* * * * *

[Revise 3.2 to read as follows:]

3.2 Unlawful Mail Matter

Unlawful matter includes any letter, newspaper, periodical, parcel, stamped card or postcard, circular, or other matter permitting or facilitating participation in a lottery; any lottery ticket or part thereof or substitute; and any form of payment for a lottery ticket or share.

3.3 Fishing Contests, Indian Gaming Regulatory Act, Lotteries

[Remove item b. Redesignate items c and d as b and c, respectively. Revise newly redesignated item c to read as follows:]

* * * * *

c. An advertisement, list of prizes, or other information on a lottery not prohibited by the state where it is conducted.

* * * * *

An appropriate amendment to 39 CFR part 111 to reflect these changes will be published.

Stanley F. Mires,
Chief Counsel, Legislative.

[FR Doc. 00-30810 Filed 12-4-00; 8:45 am]

BILLING CODE 7710-12-U